CONSUMER PRODUCT SAFETY COMMISSION

16 CFR Part 1130

Requirements for Consumer Registration of Durable Infant or Toddler Products; Correction

AGENCY: Consumer Product Safety Commission.

ACTION: Final rule; correction.

SUMMARY: The Consumer Product Safety Commission (“Commission”) is correcting a final rule that appeared in the Federal Register of December 29, 2009 (74 FR 68668). The document issued a final rule under section 104(d) of the Consumer Product Safety Improvement Act of 2008 (“CPSIA”) requiring manufacturers of durable infant or toddler products to establish and maintain a system for consumers to register their products with the manufacturer.

DATES: The correction will become effective on June 28, 2010.

FOR FURTHER INFORMATION CONTACT: Marc Schoem, Deputy Director, Office of Compliance and Field Operations, Consumer Product Safety Commission, 4330 East-West Highway, Bethesda, MD 20814; telephone (301) 504-7520; mschoem@cpsc.gov.

SUPPLEMENTARY INFORMATION: In FR Doc. E9-30485 appearing on page 68668 in the Federal Register of Tuesday, December 29, 2009, there was a discrepancy between the text describing the registration form and the figures illustrating the form. The regulatory text reversed the location of information on the bottom of the form. To address this, the following corrections are made:

§ 1130.6 [Corrected]

1. On page 68677, in the first and second columns, in § 1130.6, in paragraph (b)(3), “The bottom front panel shall have blocks for the consumer to provide his/her contact information as required in § 1130.7(c).” is corrected to read “The bottom back panel of the form shall have blocks for the consumer to provide his/her contact information as required in § 1130.7(c).”

2. On page 68677, in the second column, in § 1130.6, in paragraph (b)(3), “The back of the bottom portion of the form shall be pre-addressed and postage-paid with the manufacturer's name and mailing address where registration information is to be collected.” is corrected to read “The front of the bottom portion of the form shall be pre-addressed and postage-paid with the manufacturer's name and mailing address where registration information is to be collected.”

Dated: February 16, 2010.
Todd Stevenson,
Secretary, U.S. Consumer Product Safety Commission.

[FR Doc. 2010-3297 Filed 2-19-10; 8:45 am]

BILLING CODE 6355-01-P